DEPARTMENT OF JUSTICE

[OMB Number 1105-0108]

Agency Information Collection Activities; Proposed eCollection eComments Requested; Extension of a Previously Approved Collection; Complaint Regarding United States Marshals Service (USMS) Personnel or Programs

AGENCY: U.S. Marshals Service, Department of Justice.

ACTION: 60-Day notice.

SUMMARY: The Department of Justice (DOJ), U.S. Marshals Service (USMS), will be submitting the following information collection request to the Office of Management and Budget (OMB) for review and approval in accordance with the Paperwork Reduction Act of 1995.

DATES: Comments are encouraged and will be accepted for 60 days until September 5, 2023.

FOR FURTHER INFORMATION CONTACT: If you have additional comments especially on the estimated public burden or associated response time, suggestions, or need a copy of the proposed information collection instrument with instructions or additional information, please contact Karl Slazer, U.S. Marshals Service Headquarters, 1215 S Clark St., Ste. 10005, Arlington, VA 22202-4387, 703-740-2316; kslazer@usms.doj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This form will allow members of the public to submit information regarding potential misconduct involving USMS personnel or programs.

Overview of This Information Collection

1. Type of Information Collection: Extension of a previously approved collection.

2. The Title of the Form/Collection: Complaint Regarding USMS Personnel or Programs.

3. The agency form number, if any, and the applicable component of the Department sponsoring the collection: Form number: None. Component: U.S. Marshals Service, U.S. Department of Justice.

4. Affected public who will be asked or required to respond, as well as the obligation to respond: Affected Public: Individuals or households. The obligation to respond is voluntary.

5. An estimate of the total number of respondents and the amount of time estimated for an average respondent to respond: The estimated number of respondents for this collection is 1,000. The time per response is 5 minutes to complete the form.

6. An estimate of the total annual burden (in hours) associated with the collection: The total annual burden hours for this collection is 83 hours.

7. An estimate of the total annual cost burden associated with the collection, if applicable: $0.

Total Burden Hours
Activity | Number of respondents | Frequency | Total annual responses | Time per response (min.) | Total annual burden (hours)
Complaint Regarding USMS Personnel | 1,000 | 1/annually | 1,000 | 5 | 83
Unduplicated Totals | 1,000 |  | 1,000 |  | 83

If additional information is required contact: John R. Carlson, Department Clearance Officer, United States Department of Justice, Justice Management Division, Policy and Planning Staff, Two Constitution Square, 145 N Street NE, 4W-218, Washington, DC.

Dated: June 30, 2023.
John Carlson,
Department Clearance Officer for PRA, U.S. Department of Justice.

[FR Doc. 2023-14318 Filed 7-6-23; 8:45 am]

BILLING CODE 4410-18-P